DEPARTMENT OF HEALTH AND HUMAN SERVICES

Centers for Disease Control and Prevention

[60Day-03-98]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Evaluation of an intervention to increase colorectal cancer screening in primary care clinics—New—National Center for Chronic Disease Prevention and Health Promotion (NCCDPHP), Centers for Disease Control and Prevention (CDC).

Background and brief description of the proposed project: Colorectal cancer is the second leading cause of cancer-related deaths in the United States. Routine colorectal cancer screening is recommended for all men and women age 50 years and older. Many screening tests are widely available (e.g., fecal occult blood test, flexible sigmoidoscopy, colonoscopy), and all have been shown to be effective in reducing colorectal cancer mortality. Despite their effectiveness, colorectal cancer screening by any modality remains low. Some reasons attributed to the low screening rates include limited public awareness of colorectal cancer and the benefits of screening, failure of health care providers to recommend screening to patients, and inefficient surveillance and support systems in many health care settings. The purpose of this project is to evaluate a multi-component intervention to increase colorectal cancer screening among average-risk men and women in primary care clinics.

The proposed study will consist of three tasks. In Task 1, 196 primary care clinicians will complete a survey assessing demographics; opinions about preventive services; colorectal cancer screening training and practices; colorectal cancer screening beliefs, facilitators, and barriers; and satisfaction with colorectal cancer screening. The survey will be administered to clinicians pre- and post-intervention. In Task 2, 196 clinic support staff will complete a survey assessing demographics; work-related duties; opinions about preventive services; colorectal cancer screening training and practices; colorectal cancer screening beliefs, facilitators, and barriers; and satisfaction with colorectal cancer screening. The survey will be administered to clinic support staff pre- and post-intervention. In Task 3, clinic patients will complete a survey assessing demographics; health status; previous colorectal cancer screening and other preventive services received; colorectal cancer knowledge and opinions about colorectal cancer and colorectal cancer screening; and social support.

The survey will be administered to 4,396 patients pre-intervention (consisting of 3,276 patients surveyed only at baseline and 1,120 patients surveyed at baseline and follow-up) and 4,200 patients post-intervention (consisting of 1,120 patients surveyed at baseline and follow-up and 3,080 patients surveyed only at follow-up). There are no costs to the respondents.

Respondents | No. of respondents | No. of responses per respondent | Average burden per response (in hrs.) | Total burden (in hrs.)
Clinicians | 196 | 2 | 30/60 | 196
Clinic support staff | 196 | 2 | 25/60 | 163
Patients surveyed only at baseline | 3276 | 1 | 20/60 | 1,092
Patients surveyed at baseline and follow-up | 1120 | 2 | 20/60 | 747
Patients surveyed only at follow-up | 3080 | 1 | 20/60 | 1,027
Total |  |  |  | 3,225

Dated: July 14, 2003.
Thomas A. Bartenfeld,
Acting Associate Director for Policy, Planning and Evaluation, Centers for Disease Control and Prevention.

[FR Doc. 03-18224 Filed 7-17-03; 8:45 am]

BILLING CODE 4163-18-P